FEDERAL ELECTION COMMISSION

Sunshine Act Meeting Notice

Date & Time: Tuesday, February 26, 2002 at 10:00 A.M.

Place: 999 E Street, NW., Washington, DC.

Status: This meeting will be closed to the public.

Items To Be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date & Time: Thursday, February 28, 2002, 10:00 A.M.

Place: 999 E Street, NW., Washington, DC (Ninth Floor).

Status: This meeting will be closed to the public.

Items To Be Discussed: Correction and Approval of Minutes.

Final Rules and Explanation and Justification for Independent Expenditure Reporting.

Updated Regulations Priorities.

PERSON TO CONTACT FOR INFORMATION: Mr. Ron Harris, Press Officer, Telephone: (202) 694-1220.

Mary W. Dove,
Secretary of the Commission.

[FR Doc. 02-4317 Filed 2-19-02; 2:40 pm]

BILLING CODE 6715-01-M